DEPARTMENT OF COMMERCE

International Trade Administration

[A-570-983]

Drawn Stainless Steel Sinks From the People's Republic of China: Preliminary Intent To Rescind Antidumping Duty New Shipper Review; 2012-2013

AGENCY: Enforcement of Compliance, International Trade Administration, Department of Commerce.

SUMMARY: The Department of Commerce (“Department”) is conducting a new shipper review (“NSR”) of the antidumping duty order on drawn stainless steel sinks (“drawn sinks”) from the People's Republic of China (“PRC”). The period of review (“POR”) is October 4, 2012 through October 14, 2013. The review covers one exporter of subject merchandise, Hubei Foshan Success Imp. & Exp. Co. Ltd. (“Foshan Success”). The Department preliminarily determines that Foshan Success' sale to the United States was not bona fide and is preliminarily rescinding this NSR. Interested parties are invited to comment on these preliminary results.

DATES: Effective Date: September 30, 2014.

FOR FURTHER INFORMATION CONTACT: Joy Zhang or Erin Begnal, AD/CVD Operations, Office III, Enforcement and Compliance, International Trade Administration, U.S. Department of Commerce, 14th Street and Constitution Avenue NW., Washington, DC 20230; telephone: (202) 482-1168 or (202) 482-1442, respectively.

SUPPLEMENTARY INFORMATION:

Background

On November 27, 2013, the Department initiated an NSR of the antidumping duty order on drawn sinks from the PRC, exported by Foshan Success and produced by Jiangmen Xinhe Stainless Steel Products Co., Ltd.¹ The POR is October 4, 2012, through October 14, 2013. On May 6, 2014, the Department extended the time period for issuing the preliminary results by 120 days until September 23, 2014.²

¹ See Drawn Stainless Steel Sinks from the People's Republic of China: Initiation of New Shipper Review, 78 FR 72864 (December 4, 2013).

² See Memorandum to Christian Marsh, Deputy Assistant Secretary for Antidumping and Countervailing Duty Operations, re: Extension of Deadline for Preliminary Results of New Shipper Review of Drawn Stainless Steel Sinks from the People's Republic of China, dated May 6, 2014.

Scope of the Order

The products covered by the scope of the order are drawn stainless steel sinks with single or multiple drawn bowls, with or without drain boards, whether finished or unfinished, regardless of type of finish, gauge, or grade of stainless steel. The products covered by this order are currently classified in the Harmonized Tariff Schedule of the United States (“HTSUS”) under statistical reporting numbers 7324.10.0000 and 7324.10.00.10. Although the HTSUS subheadings are provided for convenience and customs purposes, the written description of the scope is dispositive.³

³ See “Issues and Decision Memorandum for Preliminary Results of Antidumping Duty New Shipper Review: Drawn Stainless Steel Sinks from the People's Republic of China” from Christian Marsh, Deputy Assistant Secretary for Antidumping and Countervailing Duty Operations to Paul Piquado, Assistant Secretary for Enforcement and Compliance, dated September 23, 2014 (“Preliminary Decision Memorandum”) and hereby adopted by this notice, for a complete description of the Scope of the Order.

Methodology

The Department conducted this review in accordance with section 751(a)(2)(B) of the Tariff Act of 1930, as amended (“the Act”) and 19 CFR 351.214. For a full description of the methodology underlying our conclusions, see the Appendix accompanying this notice and the Preliminary Decision Memorandum. The Preliminary Decision Memorandum is a public document and is on file electronically via Enforcement and Compliance's Antidumping and Countervailing Duty Centralized Electronic Service System (“IA ACCESS”). IA ACCESS is available to registered users at http://iaaccess.trade.gov and in the Central Records Unit, room 7046 of the main Department of Commerce building. In addition, a complete version of the Preliminary Decision Memorandum can be accessed directly on the Internet at http://enforcement.trade.gov/frn/index.html. The signed Preliminary Decision Memorandum and the electronic versions of the Preliminary Decision Memorandum are identical in content.

Preliminary Rescission of New Shipper Review

As discussed in the Preliminary Decision Memorandum, the Department preliminarily finds that the sale by Foshan Success is not a bona fide sale and that the sale does not provide a reasonable or reliable basis for calculating a dumping margin.⁴ The Department reached this conclusion based on the totality of circumstances, namely: (1) The price and quantity of Foshan Success' single sale; (2) the importer's failure to provide evidence that the subject merchandise was resold at a profit; and (3) expenses arising from making the transaction.⁵ Because this non-bona fide sale was the only sale of subject merchandise during the POR, the Department is preliminarily rescinding the NSR.

⁴ See Memorandum to Melissa Skinner, Director, Office III, Antidumping and Countervailing Duty Operations, through Erin Begnal, Program Manager, Office III, Antidumping and Countervailing Duty Operations, from Joy Zhang, International Trade Analyst, titled “Antidumping Duty New Shipper Review of Drawn Stainless Steel Sinks from the People's Republic of China: Bona Fide Sales Analysis for Hubei Foshan Success Imp. & Exp. Co., Ltd.,” (Bona fides Memorandum) dated concurrently and hereby adopted by this notice.

⁵ See id.

Disclosure and Public Comments

The Department intends to disclose the analysis performed to parties to the proceeding within five days after the date of publication of this notice.⁶

⁶ See 19 CFR 351.224(b).

Interested parties are invited to comment on the preliminary results of this review. Interested parties may submit case briefs no later than 30 days after the date of publication of the preliminary results of review.⁷ Rebuttal briefs, limited to issues raised in such briefs, may be filed no later than five days after the time limit for filing the case briefs.⁸

⁷ See 19 CFR 351.309(c)(1)(ii); Parties submitting written comments must submit them pursuant to the Department's e-filing regulations. See 19 CFR 351.303 (for general filing requirements); see also https://iaaccess.trade.gov/help/IA%20ACCESS%20User%20Guide.pdf.

⁸ See 19 CFR 351.309(d)(1)-(2).

Any interested party may request a hearing within 30 days of publication of the preliminary results in the Federal Register.⁹ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹⁰

⁹ See 19 CFR 351.310(c).

¹⁰ See 19 CFR 351.310(d).

The Department intends to issue the final results of this NSR, which will include the results of its analysis of issues raised in all comments and at any hearing, within 90 days of publication of these preliminary results, pursuant to section 751(a)(2)(B)(iv) of the Act.

Assessment Rates

Upon completion of the final results, pursuant to 19 CFR 351.212(b), the Department will determine, and U.S. Customs and Border Protection (CBP) shall assess, antidumping duties on all appropriate entries. If we proceed to a final rescission of this NSR, Foshan Success' entry will be assessed at the rate entered.¹¹ If we do not proceed to a final rescission of this NSR, pursuant to 19 CFR 351.212(b)(1), we will calculate importer-specific (or customer) ad valorem duty assessment rates. We will instruct CBP to assess antidumping duties on all appropriate entries covered by this review if any importer-specific assessment rate calculated in the final results of this review is above de minimis.¹²

¹¹ See 19 CFR 351.212(c).

¹² See 19 CFR 351.106(c)(2).

In either case, the Department intends to issue assessment instructions to CBP 15 days after the date of publication of the final results of review. The final results of this review shall be the basis for the assessment of antidumping duties on entries of merchandise covered by the final results of this review and for future deposits of estimated duties, where applicable.

Cash Deposit Requirements

Effective upon publication of the final rescission or the final results of this NSR, pursuant to section 751(a)(2)(B)(iii) of the Act and 19 CFR 351.214(e), the Department will instruct CBP to discontinue the option of posting a bond or security in lieu of a cash deposit for entries of subject merchandise by Foshan Success. If the Department proceeds to a final rescission of this NSR, the cash deposit rate will continue to be the PRC-wide rate for Foshan Success because the Department will not have determined an individual margin of dumping for Foshan Success. If the Department issues final results for this NSR, the Department will instruct CBP to collect cash deposits, effective upon the publication of the final results, at the rates established therein.

Notification to Interested Parties

This notice serves as a preliminary reminder to importers of their responsibility under 19 FR 351.402(f)(2) to file a certificate regarding the reimbursement of antidumping duties prior to liquidation of the relevant entries during this POR. Failure to comply with this requirement could result in the Secretary's presumption that reimbursement of antidumping duties occurred and the subsequent assessment of double antidumping duties.

We are issuing and publishing this determination in accordance with sections 751(a)(2)(B) and 777(i)(1) of the Act.

Dated: September 23, 2014.
Paul Piquado,
Assistant Secretary for Enforcement and Compliance.

Appendix

List of Topics Discussed in the Preliminary Decision Memorandum

Summary

Background

Scope of the Order

Discussion of the Methodology Bona fides Analysis

Conclusion

[FR Doc. 2014-23285 Filed 9-29-14; 8:45 am]

BILLING CODE 3510-DS-P